AMERICAN BATTLE MONUMENTS COMMISSION

Performance Review Board Appointments

AGENCY: American Battle Monuments Commission.

ACTION: Notice of performance review board appointments.

SUMMARY: This notice provides the names of individuals who have been appointed to serve as members of the American Battle Monuments Commission Performance Review Board. The publication of these appointments is required by the Civil Service Reform Act of 1978.

DATES: These appointments are effective as of 01 October 2021.

FOR FURTHER INFORMATION CONTACT: Jamilyn Smyser, Chief of Human Resources and Administration, American Battle Monuments Commission, Courthouse Plaza II Suite 500, 2300 Clarendon Boulevard, Arlington, Virginia 22201. Telephone number: (703) 584-1544.

American Battle Monument Commission SES Performance Review Board—2020/2021

Dr. Erin Mahan, Chief Historian, Office of the Secretary of Defense

Mr. Mark Averill, Deputy Administrative Assistant to the Secretary of the Army

Michael Conley, Chief of Staff, American Battle Monuments Commission

Jamilyn Smyser,
Chief, Human Resources and Administration.

[FR Doc. 2021-21882 Filed 10-6-21; 8:45 am]

BILLING CODE 6120-01-P